DEPARTMENT OF ENERGY

Federal Energy Regulatory Commission

[Docket Nos. CP01-419-000 and CP01-421-000]

Portland General Electric Company; Notice of Application

August 3, 2001.

Take notice that on July 27, 2001, Portland General Electric Company (Portland General), 121 S.W. Salmon Street, 1 WTC-1301, Portland, Oregon 97204, filed in Docket No. CP01-419-000, an application pursuant to Section 7, Part 157, Subpart F, of the Natural Gas Act (NGA) for issuance of a Blanket Certificate of Public Convenience and Necessity, and in Docket No. CP01-421-000, an application pursuant to Section 7, Part 284, Subpart G of the NGA for issuance of a Blanket Certificate of Public Convenience and Necessity, a Request for Waiver and Extension of Time, and approval of initial rates for firm and interruptible transportation services to be rendered by Portland General and pro forma tariff provisions, all as more fully set forth in the application which is on file with the Commission and open to public inspection. Copies of this filing are on file with the Commission and are available for public inspection. This filing may be viewed on the web at http://www.ferc.gov using the “RIMS” link, select “Docket #” from the RIMS Menu and follow the instructions (call (202) 208-2222 for assistance).

Portland General requests the issuance of a blanket certificate pursuant to Subpart F of Part 157 of the Commission's Regulations to permit the construction, acquisition, and abandonment of facilities and for approval of other routine activities permitted by that subpart and the issuance of a blanket certificate pursuant to Subpart G of Part 284 of the Commission's Regulations authorizing the transportation of natural gas for others.

Portland General requests a waiver of the Commission's electronic data interchange (EDI) and electronic delivery mechanism (EDM) unless and until a customer requests that Portland General implement such standards. Portland General indicates that their pipeline is small and the costs of implementing EDI/EDM are comparatively high. Portland General states that even after the acceptance of the requested blanket open-access certificate, they are likely to serve few, if any, shippers prior to any expansion of its facilities.

Portland General further requests an extension of time by which to comply with the Commission's Electronic Bulletin Board (EBB) requirements until the later of: (a) such time as Portland General has contracted with a shipper to provide service; or (b) one year from the date Portland General's tariff becomes effective. Portland General has previously indicated that it has a limited amount of capacity available in the short term and is likely to serve few, if any, shippers prior to any expansion of its facilities.

Portland General also requests that the Commission grant any additional waivers that it may deem necessary to issue the certificates.

On October 24, 1991, the Commission issued a certificate authorizing Portland General and KB Pipeline Company to construct and operate the Kelso-Beaver Pipeline, 17 miles of 20-inch diameter pipeline, with a capacity of 193 Mmcf per day, in Docket No. CP91-1607-000. Portland General states that it will offer both firm and interruptible services on an open-access, not unduly discriminatory basis pursuant to Part 284 of the Commission's Regulations, with services available at both recourse and negotiated rates. Portland General states that its FT-1 recourse rate is cost-based, designed using a postage stamp, straight-fixed variable rate structure. Portland General indicates that its maximum recourse rate, expressed on a 100 percent load factor basis, is $0.047. Portland General declares that it will offer shippers interruptible transportation service under Rate Schedule IT-1 when and to the extent that Portland General determines that sufficient capacity is available. Portland General states that its proposed maximum IT-1 rate is the 100 percent load factor equivalent of the maximum FT-1 recourse rate. Portland General indicates that its Rate Schedules FT-1 and IT-1 include overrun and underrun charges. Portland General states that it will charge the Annual Charge Adjustment surcharge as set forth in the tariff.

Portland General states that one aspect of the certificate application and the pro forma tariff is out of the ordinary. Portland General declares that it currently does not provide transportation service for any other party over the Kelso-Beaver Pipeline, including affiliates of Portland General. Instead, Portland general states that it consumes 100 percent of the gas that it transports for itself in the Beaver generating station and, starting this summer, in its new 24.9 MW generation facility. As a consequence, Portland General indicates that it does not have any transportation contracts for the use of the Kelso-Beaver Pipeline.

Portland General proposes to adopt a system similar to that used by the Commission under Order No. 888 (FERC Statutes and Regulations ¶ 31,036) for open-access transmission by electric utilities. Portland General indicates that under Order No. 888, transmission owners serving their own bundled retail load and bundled wholesale requirements customers (collectively, these loads are referred to as native load) do not have to take transmission service under their open-access tariffs. Portland General indicates that instead, they are permitted to reserve capacity on their system to serve their native load, and also are permitted to reserve additional capacity to serve load growth.

Portland General proposes that it similarly be permitted to reserve capacity on the Kelso-Beaver Pipeline for transportation of gas used for Portland General's own consumption. Portland General states that Section 22.1(a) of the General Terms and Conditions has been added to the tariff to implement this proposal. Portland General indicates that under Section 22.1(a), the amount of capacity that Portland General is reserving for its own use must be listed on the Index of Customers and will be posted on its webpage.

Portland General states that it is reserving 122.5 Mmcf per day of capacity to serve the Beaver Station and the 24.9 MW generating facility that will be placed in service this summer, leaving 31.5 Mmcf per day of capacity that is available in the short term. However, Portland General indicates that it has plans to use that 31.5 Mmcf per day in the future, and therefore is reserving that capacity for itself, starting in 2003. Portland General states that this capacity will be used in connection with their future uses, including the Port Westward project. In addition, Portland General declares that it has received a request for transportation from Summit Power NW LLC (Summit), which has requested 85 Mmcf per day of capacity. Portland General states that it has reached an agreement in principle with Summit to propose an expansion of the Kelso-Beaver Pipeline to the pipeline co-owners that would permit Portland General to grant Summit's request for service. Portland General declares that any expansion would be performed pursuant to an open season.

Any questions regarding this amendment should be directed to Michele Farrell, FERC Project Manager, Portland General Electric Company, 121 S.W. Salmon Street, 1 WTC-1301, Portland, Oregon 97204, at (503) 464-7371.

There are two ways to become involved in the Commission's review of this project. First, any person wishing to obtain legal status by becoming a party to the proceedings for this project should, on or before August 24, 2001, file with the Federal Energy Regulatory Commission, 888 First Street, NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments, protests and interventions may be filed electronically via the Internet in lieu of paper. See, 18 CFR 385.2001(a)(1)(iii) and the instructions on the Commission's web site under the “e-Filing” link.

If the Commission decides to set the application for a formal hearing before an Administrative Law Judge, the Commission will issue another notice describing that process. At the end of the Commission's review process, a final Commission order approving or denying a certificate will be issued.

David P. Boergers,
Secretary.

[FR Doc. 01-19985 Filed 8-8-01; 8:45 am]

BILLING CODE 6717-01-P